DEPARTMENT OF COMMERCE

National Oceanic and Atmospheric Administration

RIN 0648-XD019

Endangered and Threatened Species; Take of Anadromous Fish

AGENCY: National Marine Fisheries Service (NMFS), National Oceanic and Atmospheric Administration (NOAA), Commerce.

ACTION: Notice of receipt and request for comment.

SUMMARY: Notice is hereby given that NMFS has received three applications for direct take permits for spring Chinook salmon, in the form of Hatchery and Genetic Management Plans (HGMPs), pursuant to the Endangered Species Act of 1973, as amended (ESA). One application is from the Public Utility District No. 1 of Douglas County (Douglas PUD), the Public Utility District of Grant County (Grant PUD), and the Washington Department of Fish and Wildlife (WDFW) for the operation of the Methow spring Chinook salmon program. Another application is from the U.S. Fish and Wildlife Service (USFWS) and U.S. Bureau of Reclamation (Reclamation) for the Winthrop National Fish Hatchery (WNFH) spring Chinook salmon program. The third application is from the Confederated Colville Tribes (CCT); this program is funded by the Bonneville Power Administration (BPA) and operates in close coordination with the USFWS and Reclamation WNFH spring Chinook program. All applicants are seeking ESA section 10(a)(1)(A) permits. This document serves to notify the public of the availability of the permit applications and addenda for public review, comment, and submission of written data, views, arguments, or other relevant information. All comments and other information received will become part of the public record and will be available for review pursuant to section 10(c) of the ESA.

DATES: Comments and other submissions must be received at the appropriate address or fax number (see ADDRESSES) no later than 5 p.m. Pacific time on January 9, 2014.

ADDRESSES: Written responses to the application should be sent to Craig Busack, National Marine Fisheries Services, Sustainable Fisheries Division, 1201 NE. Lloyd Boulevard, Suite 1100, Portland, OR 97232. Comments may also be submitted by email to: MethowOkanoganPlans.wcr@noaa.gov. Include in the subject line of the email comment the following identifier: Comments on Methow, Winthrop, and Okanogan spring Chinook salmon HGMPs. Comments may also be sent via facsimile (fax) to (503) 872-2737. Requests for copies of the permit applications should be directed to the National Marine Fisheries Services, Sustainable Fisheries Division, 1201 NE. Lloyd Boulevard, Suite 1100, Portland, OR 97232. The documents are also available on the Internet at www.westcoast.fisheries.noaa.gov. Comments received will also be available for public inspection, by appointment, during normal business hours by calling (503) 230-5418.

FOR FURTHER INFORMATION CONTACT: Craig Busack at (503) 230-5412 or via email at craig.busack@noaa.gov.

SUPPLEMENTARY INFORMATION:

Species Covered in This Notice

Chinook salmon (Oncorhynchus tshawytscha): endangered, naturally-produced and artificially-propagated Upper Columbia River spring-run.

Steelhead (Oncorhynchus mykiss): threatened, naturally-produced and artificially-propagated Upper Columbia River summer-run.

Background

Section 9 of the ESA and Federal regulations prohibit the “taking” of a species listed as endangered or threatened. The term “take” is defined under the ESA to mean harass, harm, pursue, hunt, shoot, wound, kill, trap, capture, or collect, or to attempt to engage in any such conduct. NMFS may issue permits to take listed species for any act otherwise prohibited by section 9 for scientific purposes or to enhance the propagation or survival of the affected species, under section 10(a)(1)(A) of the ESA. NMFS regulations governing permits for threatened and endangered species are promulgated at 50 CFR 222.307.

On November 13, 2012, NMFS received an application from the Douglas PUD, the Grant PUD, and the WDFW for an ESA section 10(a)(1)(A) permit for the direct take of ESA-listed Upper Columbia River spring Chinook salmon in order to carry out an artificial propagation (hatchery) program at the Methow Fish Hatchery (MFH) and associated facilities to enhance the species. The application included a HGMP (dated February 12, 2010; previously submitted on March 3, 2010) and a supplemental document titled Supporting Information Submitted to National Marine Fisheries Service Regarding the Methow Fish Hatchery Spring Chinook HGMP. The Douglas and Grant PUD-funded and WDFW Methow spring Chinook salmon program serves two purposes: (1) Mitigation for passage losses caused by operation of the Wells, Priest Rapids, and Wanapum Dams, and (2) act as a conservation program for Methow spring Chinook salmon. The current release goal is 163,000 yearling smolts annually.The proposed hatchery program complies with the terms and conditions of the Wells Anadromous Fish Agreement and Habitat Conservation Plan (HCP) and the Priest Rapids anadromous fish settlement agreement, and is consistent with the 2008-2017 U.S. v. Oregon Management Agreement.

On November 21, 2012, NMFS received an application from the USFWS and Reclamation for the WNFH spring Chinook salmon program. The application included an HGMP and a supplemental document entitled Supporting Information Submitted to National Marine Fisheries Service Regarding the Winthrop National Fish Hatchery Spring Chinook HGMP. The purpose of this program is to mitigate for the losses caused by the construction of Grand Coulee Dam. The WNFH spring Chinook salmon program serves two purposes: (1) Provides a “safety-net” program for the MFH conservation program operated by the WDFW, and (2) provides a biologically appropriate source of juvenile fish for a proposed spring Chinook salmon reintroduction program in the Okanogan subbasin. The current release goal is 600,000 juveniles annually. The proposed hatchery program complies with the 2008-2017 U.S. v .Oregon Management Agreement.

On May 13, 2013, NMFS received an application from the CCT for an ESA section 10(a)(1)(A) permit for the direct take of ESA-listed Upper Columbia River spring Chinook salmon in order to carry out an artificial propagation (hatchery) program at the Chief Joseph Hatchery and associated facilities for development of a non-essential experimental Okanogan spring Chinook salmon population. The purpose of this program is to restore natural spawning spring Chinook salmon in historical habitats of the Okanogan subbasin. The long-term vision is to restore ceremonial and subsistence fishing for the CCT throughout their usual and accustomed fishing grounds. However, the short-term focus is on conservation—the program is expected to expand the spatial structure of the UCR Spring Chinook Salmon ESU, and no harvest activities will occur within the 5- to 10-year time frame of this HGMP. The CCT's Chief Joseph Hatchery spring Chinook salmon program releases would establish a nonessential experimental spring Chinook salmon population in the Okanogan River under section 10(j) of the ESA, using Methow composite spring Chinook salmon from the WNFH in place of Carson-stock spring Chinook salmon.

All HGMPs and supporting documents are available for public review and comment as part of the permit application packages.

Authority

This notice is provided pursuant to section 10(c) of the ESA. NMFS will evaluate each application, associated documents, and comments submitted thereon to determine whether the applications meet the requirements of section 10(a)(1)(A) of the ESA. If it is determined that the requirements are met, permits will be issued to the USFWS along with the WDFW and the Douglas and Grant PUDs as co-permittees for the purpose of carrying out the Methow spring Chinook salmon program. Permits will also be issued to the USFWS and the CCT for the purpose of carrying out the Okanogan spring Chinook salmon hatchery program. NMFS will publish a record of its final action in the Federal Register.

Dated: December 4, 2013.
Angela Somma,
Chief, Endangered Species Division, Office of Protected Resources, National Marine Fisheries Service.

[FR Doc. 2013-29400 Filed 12-9-13; 8:45 am]

BILLING CODE 3510-22-P